DEPARTMENT OF HEALTH AND HUMAN SERVICES

Food and Drug Administration

Industry Grassroots Meeting: Report on Partnership Activities

AGENCY: Food and Drug Administration, HHS.

ACTION: Notice of meeting.

The Food and Drug Administration (FDA), Office of Regulatory Affairs, San Francisco District Office is announcing the following meeting entitled “Industry Grassroots Meeting: Report on Partnership Activities.” The purpose of the meeting is to report the Partnership Among Industry and Regulators (PAIR) Committee activities and to solicit input from participants for future activities and projects for the PAIR Committee. The PAIR Committee was formed as a result of an action item coming out of a similar grassroots meeting held at the Oakland Federal Bldg. in January of 1997.

Date and Time: The meeting will be held on May 10, 2000, from 8 a.m. to 5 p.m.

Location: The meeting will be held at the Oakland Federal Bldg., North Tower, 3d Floor Auditorium, 1301 Clay St., Oakland, CA 94612.

Contact: Jake Pearson, San Francisco District Office (HFR-PA 160), 510-337-6877, FAX 510-337-6701, e-mail jpearson@ora.fda.gov, or Kathryn D. Macropol (HFR-PA 140), 510-337-6867, e-mail kmacropo@ora.fda.gov, Food and Drug Administration, 1431 Harbor Bay Pkwy., Alameda, CA 94502. Information is also available at the PAIR website at http://www.pair-ca.org.

Registration: There is no charge to attend the meeting; however, registration is required. The meeting is open to all interested in management and regulatory affairs activities of industries regulated by FDA. While attendance would most benefit those industries located in Northern California, all interested groups are encouraged to attend. You may register via the Internet at http://www.pair-ca.org and by completing the online registration form. Alternatively, you can register by sending your name, title, firm name, address, telephone, fax number, and e-mail address (if available) to the contacts listed above. Please include any topics of interest you would like to have included in the program.

If you need special accommodations due to a disability, please notify Jake Pearson at least 7 days in advance.

Dated: April 12, 2000.
William K. Hubbard,
Senior Associate Commissioner for Policy, Planning, and Legislation.

[FR Doc. 00-9712 Filed 4-18-00; 8:45 am]

BILLING CODE 4160-01-F